INTERNATIONAL TRADE COMMISSION

[Investigation Nos. 701-TA-606 and 731-TA-1416 (Review)]

Quartz Surface Products From China

Determinations

On the basis of the record ¹ developed in the subject five-year reviews, the United States International Trade Commission (“Commission”) determines, pursuant to the Tariff Act of 1930 (“the Act”), that revocation of the countervailing duty and antidumping duty orders on quartz surface products from China would be likely to lead to continuation or recurrence of material injury to an industry in the United States within a reasonably foreseeable time.

¹ The record is defined in § 207.2(f) of the Commission's Rules of Practice and Procedure (19 CFR 207.2(f)).

Background

The Commission instituted these reviews on June 3, 2024 (89 FR 47614) and determined on September 6, 2024 that it would conduct expedited reviews (89 FR 97653, December 9, 2024).

The Commission made these determinations pursuant to section 751(c) of the Act (19 U.S.C. 1675(c)). It completed and filed its determinations in these reviews on January 17, 2025. The views of the Commission are contained in USITC Publication 5578 (January 2025), entitled Quartz Surface Products from China: Investigation Nos. 701-TA-606 and 731-TA-1416 (Review).

By order of the Commission.
Issued: January 17, 2025.
Lisa Barton,
Secretary to the Commission.

[FR Doc. 2025-01632 Filed 1-23-25; 8:45 am]

BILLING CODE 7020-02-P